DEPARTMENT OF THE INTERIOR

National Park Service

[NPS-WASO-NAGPRA-NPS0026863; PPWOCRADN0-PCU00RP14.R50000]

Notice of Intent To Repatriate Cultural Items: Minnesota Historical Society, St. Paul, MN

AGENCY: National Park Service, Interior.

ACTION: Notice.

SUMMARY: The Minnesota Historical Society, in consultation with the appropriate Indian Tribes or Native Hawaiian organizations, has determined that the cultural item listed in this notice meets the definition of unassociated funerary object. Lineal descendants or representatives of any Indian Tribe or Native Hawaiian organization not identified in this notice that wish to claim this cultural item should submit a written request to the Minnesota Historical Society. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the Minnesota Historical Society at the address in this notice by December 14, 2018.

ADDRESSES: Ben Gessner, Minnesota Historical Society, 345 W. Kellogg Blvd., St. Paul, MN 55102, telephone (651) 259-3281, email benjamin.gessner@mnhs.org.

SUPPLEMENTARY INFORMATION: Notice is here given in accordance with the Native American Graves Protection and Repatriation Act (NAGPRA), 25 U.S.C. 3005, of the intent to repatriate a cultural item under the control of the Minnesota Historical Society, St. Paul, MN, that meets the definition of unassociated funerary object under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item(s)

In or around 1869, one cultural item was removed from a burial mound during construction of a street in Red Wing, MN. The associated human remains were not exhumed. The item was donated to the Minnesota Historical Society in September, 1944, by Ms. Grace E. Polk. The one unassociated funerary object is a Jefferson Peace and Friendship Medal (MNHS #8407).

A preponderance of evidence surrounding the removal of MNHS #8407—the Red Wing provenience, the association in a burial mound with skeletal remains, and the size of the medal—supports the conclusion that this medal was presented to Mdewakanton Dakota Chief Tatankamani (Walking Buffalo, also known as hereditary chief Red Wing) (d. 1829) by the United States Government in the first decade of the 19th century. Tatankamani's village was located on the eastern shores of Lake Pepin, near modern day Red Wing, MN, which bears his name. Tatankamani's descendants were removed from the area during the Treaty period, and later were forcibly removed from the state of Minnesota following the U.S.-Dakota War of 1862. Many of them were relocated to the Santee Reservation in Nebraska, although contemporary descendants can be found in many of the Dakota communities and reservations. A summary was submitted for review and consultation to representatives of Tatankamani lineal descendants, and the Crow Creek Sioux Tribe of the Crow Creek Reservation, South Dakota; Flandreau Santee Sioux Tribe of South Dakota; Lower Sioux Indian Community in the State of Minnesota; Oglala Sioux Tribe (previously listed as the Oglala Sioux Tribe of the Pine Ridge Reservation, South Dakota); Prairie Island Indian Community in the State of Minnesota; Santee Sioux Nation, Nebraska; Shakopee Mdewakanton Sioux Community of Minnesota; Sisseton-Wahpeton Oyate of the Lake Traverse Reservation, South Dakota; and the Upper Sioux Community, Minnesota (hereafter known as “The Affiliated Tribes”).

Determinations Made by the Minnesota Historical Society

Officials of the Minnesota Historical Society have determined that:

• Pursuant to 25 U.S.C. 3001(3)(B), the one cultural item described above is reasonably believed to have been placed with or near the individual human remains of Tatankamani at the time of his death or later as part of the death rite or ceremony, and is believed, by a preponderance of the evidence, to have been removed from a specific burial site of a Native American individual, i.e. the burial site of Tatankamani.

• Pursuant to 43 CFR 10.14(b), Josie Redwing and Melody Redwing are direct lineal descendants of Tatankamani, based on genealogical evidence on file with the Minnesota Historical Society.

Additional Requestors and Disposition

Lineal descendants or representatives of any Indian Tribe or Native Hawaiian organization not identified in this notice that wish to claim this cultural item should submit a written request with information in support of the claim to Ben Gessner, Minnesota Historical Society, 345 W. Kellogg Blvd., St. Paul, MN 55102, telephone (651) 259-3281, email benjamin.gessner@mnhs.org, by December 14, 2018. After that date, if no additional claimants have come forward, pursuant to 25 U.S.C. 3005(a), transfer of control of the unassociated funerary object to the lineal descendants of Tatankamani represented by Josie Redwing and Melody Redwing may proceed.

The Minnesota Historical Society is responsible for notifying Josie Redwing, Melody Redwing, and The Affiliated Tribes that this notice has been published.

Dated: October 22, 2018.
Melanie O'Brien,
Manager, National NAGPRA Program.

[FR Doc. 2018-24768 Filed 11-13-18; 8:45 am]

BILLING CODE 4312-52-P